DEPARTMENT OF HOMELAND SECURITY

Coast Guard

33 CFR Part 117

[Docket No. USCG-2022-0222]

Drawbridge Operation Regulation; Okeechobee Waterway, Stuart, FL

AGENCY: Coast Guard, Department of Homeland Security (DHS).

ACTION: Notification of temporary deviation from regulations; request for comments.

SUMMARY: The Coast Guard is issuing a temporary deviation from the operating schedule that governs the Florida East Coast (FEC) Railroad Bridge, across the Okeechobee Waterway (OWW), mile 7.41, at Stuart, Florida. In anticipation of a significant increase in railway activity across the FEC Railroad Bridge, the Coast Guard is considering changing the operating regulation for the FEC Railroad Bridge to allow the drawbridge to operate on a more predictable schedule. This temporary deviation will test a drawbridge operating schedule to determine whether a permanent change to the schedule is needed. The Coast Guard is seeking comments from the public regarding this deviation.

DATES: This deviation is effective from 12:01 a.m. on August 15, 2023, through 11:59 p.m. on December 17, 2023.

Comments and related material must reach the Coast Guard on or before October 15, 2023.

ADDRESSES: You may submit comments identified by docket number USCG-2022-0222 using Federal Decision Making Portal at https://www.regulations.gov.

See the “Public Participation and Request for Comments” portion of the SUPPLEMENTARY INFORMATION section below for instructions on submitting comments.

FOR FURTHER INFORMATION CONTACT: If you have questions on this temporary deviation, call or email Ms. Jennifer Zercher, Bridge Management Specialist, Seventh Coast Guard District; telephone 305-415-6740, email Jennifer.N.Zercher@uscg.mil.

SUPPLEMENTARY INFORMATION:

I. Background, Purpose and Legal Basis

The Florida East Coast (FEC) Railroad Bridge across the Okeechobee Waterway (OWW), mile 7.4, at Stuart, Florida, is a single-leaf bascule bridge with a six-foot vertical clearance at mean high water in the closed position. The normal operating schedule for the bridge is found in 33 CFR 117.317(c).

In anticipation of a significant increase in railway activity across the FEC Railroad Bridge, the Coast Guard is considering changing the operating regulation for the FEC Railroad Bridge to allow the drawbridge to operate on a more predictable schedule, to be open for navigation at least 50 percent of the time during daytime operations (6 a.m. to 10 p.m.) and to allow for reasonable usage of competing modes of transportation.

On May 3, 2022, the Coast Guard published a Notification of Inquiry entitled “Drawbridge Operation Regulation; Okeechobee Waterway, Stuart, FL” in the Federal Register (87 FR 26145). On June 10, 2022, a Supplemental Notification of Inquiry entitled “Drawbridge Operation Regulation; Okeechobee Waterway, Stuart, FL” was published in the Federal Register (87 FR 35472). We received a total 2,358 comments on those publications. Those comments were taken into consideration when developing this test deviation.

On June 8, 2023, the Coast Guard published a Temporary Deviation entitled “Drawbridge Operation Regulation; Okeechobee Waterway, Stuart, FL” in the Federal Register (88 FR 37470). The comment period ended on August 4, 2023, with 342 comments received. While those comments were taken into consideration while making this modification, comments from all Notices of Inquiry and Temporary Deviations will be addressed further if a notice of proposed rulemaking (NPRM) is published. The NW Dixie Hwy Bridge has been removed from this docket to allow the Coast Guard to commence a separate rulemaking for the highway bridge to operate on demand.

Under this temporary deviation, the FEC Railroad Bridge will be maintained in the fully open-to-navigation position, except during periods when it is closed for the passage of train traffic, to conduct inspections, and to perform maintenance and repairs authorized by the Coast Guard. However, the bridge will not be closed for more than 50 consecutive minutes in any given hour during daytime operations (6 a.m. to 10 p.m.) and for more than 8 total hours during daytime operations (6 a.m. to 10 p.m.).

Notwithstanding the above paragraph, the drawbridge will open and remain open to navigation for a fixed 10-minute period at the top of each hour from 6 a.m. to 10 p.m. In addition, the drawbridge will open and remain open to navigation for a fixed 15-minute period as outlined in the table below:

Table 1
Monday through Friday
8:55 a.m. through 9:10 a.m.
Saturday and Sunday
8:55 a.m. through 9:10 a.m.
9:55 a.m. through 10:10 a.m.
10:55 a.m. through 11:10 a.m.
12:55 p.m. through 1:10 p.m.
4:55 p.m. through 5:10 p.m.

From 10:01 p.m. until 5:59 a.m. daily, the drawbridge will remain in the fully open-to-navigation position, except during periods when it is closed for the passage of train traffic, to conduct inspections, and to perform maintenance and repairs authorized by the Coast Guard. The drawbridge will not be closed more than 60 consecutive minutes.

If a train is in the track circuit at the start of a fixed opening period, the opening may be delayed up to, but not more than, five minutes. Once the train has cleared the circuit, the bridge must open immediately for navigation to begin the fixed opening period.

In the event of a drawbridge operational failure, or other emergency circumstances impacting normal drawbridge operations, the drawbridge owner will immediately notify the Coast Guard Captain of the Port Miami and provide an estimated time of repair and return to normal operations.

The drawbridge will be tended from 6 a.m. to 10 p.m., daily. The bridge tender will monitor VHF-FM channels 9 and 16 and will provide estimated times of drawbridge openings and closures, or any operational information requested. Operational information will be provided 24 hours a day by telephone at (772) 403-1005.

The drawbridge owner will maintain a mobile application. The drawbridge owner will publish drawbridge opening times, and the drawbridge owner will provide timely updates to schedules, including but not limited to, impacts due to emergency circumstances, inspections, maintenance, and repairs authorized by the Coast Guard.

Signs will be posted and visible to marine traffic, displaying VHF radio contact information, application information, and the telephone number for the bridge tender.

A drawbridge logbook will be maintained including the date and time of each closing and opening of the draw. The drawbridge logbook will also include all maintenance opening, closings, malfunctions, or other comments. During the temporary deviation, a copy of the drawbridge logbook for the previous week will be provided to the Seventh Coast Guard District Bridge Manager by 4 p.m. each Monday.

In accordance with 33 CFR 117.35(e), the drawbridge must return to its regular operating schedules immediately at the end of the effective period of this temporary deviation. This deviation from the operating regulation is authorized pursuant to 33 CFR 117.35(a).

II. Public Participation and Request for Comments

We view public participation as essential to determining the needs of the public and will consider all comments and material received during the comment period. Your comment can help shape the outcome of future actions. If you submit a comment, please include the docket number for this test deviation, indicate the specific section of this document to which each comment applies, and provide a reason for each suggestion or recommendation.

Submitting comments. We encourage you to submit comments through the Federal Decision Making Portal at https://www.regulations.gov. To do so, go to https://www.regulations.gov, type USCG-2022-0222, in the search box and click “Search.” Next, look for this document in the Search Results column, and click on it. Then click on the Comment option. If your material cannot be submitted using https://www.regulations.gov, contact the person in the FOR FURTHER INFORMATION CONTACT section of this document for alternate instructions.

View material in the docket. To view documents mentioned in this deviation as being available in the docket, find the docket as described in the previous paragraph, and then select “Supporting & Related Material” in the Document Type column. Public comments will also be placed in our online docket and can be viewed by following instructions on the https://www.regulations.gov Frequently Asked Questions web page. Also, if you go to the online docket and sign up for email alerts, you will be notified when comments, future actions or updates are posted to the docket.

We review all comments received, but we will only post comments that address the topic of this deviation. We may choose not to post off-topic, inappropriate, or duplicate comments that we receive.

We accept anonymous comments. Comments we post to https://www.regulations.gov will include any personal information you have provided. For more about privacy and submissions in response to this document, see DHS's eRulemaking System of Records notice (85 FR 14226, March 11, 2020).

Dated: August 7, 2023.
Douglas M. Schofield,
Rear Admiral, U.S. Coast Guard, Commander, Coast Guard Seventh District.

[FR Doc. 2023-17222 Filed 8-10-23; 8:45 am]

BILLING CODE 9110-04-P